DEPARTMENT OF JUSTICE

Office of Justice Programs

[OJP(OJJDP) Docket No. 1380]

Office of Juvenile Justice and Delinquency Prevention: Meeting of the Coordinating Council on Juvenile Justice and Delinquency Prevention

AGENCY: Office of Juvenile Justice and Delinquency Prevention, Office of Justice Programs, Justice.

ACTION: Notice of meeting.

SUMMARY: The Office of Juvenile Justice and Delinquency Prevention is announcing the meeting of the Coordinating Council on Juvenile Justice and Delinquency Prevention. This meeting will be open to the public.

DATES: Friday, July 18, 2003, from 10 a.m. to 1 p.m. (ET).

ADDRESSES: The meeting will take place at the U.S. Department of Justice, Office of Justice Programs, Main Conference Room, 3rd Floor, 810 Seventh Street NW., Washington, DC 20531.

FOR FURTHER INFORMATION CONTACT: Daryel Dunston, Program Manager, Juvenile Justice Resource Center, at: 301-519-6473, or Karen Boston, Administrative Coordinator, Juvenile Justice Resource Center, at: 301-519-5535. [These are not toll-free numbers.]

SUPPLEMENTARY INFORMATION: The Coordinating Council on Juvenile Justice and Delinquency Prevention, established pursuant to section 3(2)A of the Federal Advisory Committee Act (5 U.S.C. App. 2), will meet to carry out its advisory functions under Section 206 of the Juvenile Justice and Delinquency Prevention Act of 1974, 42 U.S.C. 5601, et seq. Documents such as meeting announcements, agendas, minutes, and interim and final reports will be available on the Council's Web page at ojjdp.ncjrs.org/council/index.html.

Oral and Written Comments

Requests for the opportunity to present oral comments during the meeting must be made in writing, and received no later than 12 noon (ET), on Friday, July 11, 2003. Requests should be sent to Marilyn Roberts, Designated Federal Official for the Coordinating Council on Juvenile Justice and Delinquency Prevention, by fax at: 202-307-2093, or by e-mail, at: robertsm@ojp.usdoj.gov. In general, each individual or group making an oral presentation will be limited to a total time of 10 minutes.

Written comments may be submitted to the Office of Juvenile Justice and Delinquency Prevention, by fax at: 202-307-2093, or by e-mail at: robertsm@ojp.usdoj.gov.

The Coordinating Council on Juvenile Justice and Delinquency Prevention expects that public statements presented at its meetings will not be repetitive of previously submitted oral or written statements.

Members of the public who wish to attend the meeting should notify the Juvenile Justice Resource Center at 301-519-6473 (Daryel Dunston) or at 301-519-6473 (Karen Boston), by 5 p.m., ET, on Friday, July 11, 2003. [These are not toll-free numbers.] To register for the meeting online, go to ojjdp.ncjrs.org/council/meetings.html.

Note: For security purposes, photo identification will be required for admission to the meeting.

Dated: June 17, 2003.
J. Robert Flores,
Administrator, Office of Juvenile Justice and Delinquency Prevention.

[FR Doc. 03-16917 Filed 7-2-03; 8:45 am]

BILLING CODE 4410-18-P